DEPARTMENT OF COMMERCE

National Oceanic and Atmospheric Administration

[RTID 0648-XA309]

Nominations to the Marine Mammal Scientific Review Groups

AGENCY: National Marine Fisheries Service (NMFS), National Oceanic and Atmospheric Administration (NOAA), Commerce.

ACTION: Notice; request for nominations.

SUMMARY: As required by of the Marine Mammal Protection Act (MMPA), the Secretary of Commerce established three independent regional scientific review groups (SRGs) to provide advice on a range of marine mammal science and management issues. NMFS conducted a membership review of the Alaska, Atlantic, and Pacific SRGs, and is soliciting nominations for new members to fill vacancies and gaps in expertise.

DATES: Nominations must be received by October 5, 2020.

ADDRESSES: Nominations can be emailed to Zachary.Schakner@noaa.gov, Protected Species Science Branch, Office of Science and Technology, National Marine Fisheries Service, Attn: SRGs.

FOR FURTHER INFORMATION CONTACT: Dr. Zachary Schakner, Office of Science and Technology, 301-427-8106, Zachary.Schakner@noaa.gov. Information about the SRGs, including the SRG Terms of Reference, is available at https://www.fisheries.noaa.gov/national/marine-mammal-protection/scientific-review-groups.

SUPPLEMENTARY INFORMATION: Section 117(d) of the MMPA (16 U.S.C. 1386(d)) directs the Secretary of Commerce to establish three independent regional SRGs to advise the Secretary (authority delegated to NMFS). The Alaska SRG advises on marine mammals that occur in waters off Alaska that are under the jurisdiction of the United States. The Pacific SRG advises on marine mammals that occur in waters off the U.S. West Coast, Hawaiian Islands, and the U.S. Territories in the Central and Western Pacific that are under the jurisdiction of the United States. The Atlantic SRG advises on marine mammals that occur in waters off the Atlantic coast, Gulf of Mexico, and U.S. Territories in the Caribbean that are under the jurisdiction of the United States.

SRGs members are highly qualified individuals with expertise in marine mammal biology and ecology, population dynamics and modeling, commercial fishing technology and practices, and stocks taken under section 101(b) of the MMPA. The SRGs provide expert reviews of draft marine mammal stock assessment reports and other information related to the matters identified in section 117(d)(1) of the MMPA, including:

A. Population estimates and the population status and trends of marine mammal stocks;

B. Uncertainties and research needed regarding stock separation, abundance, or trends, and factors affecting the distribution, size, or productivity of the stock;

C. Uncertainties and research needed regarding the species, number, ages, gender, and reproductive status of marine mammals;

D. Research needed to identify modifications in fishing gear and practices likely to reduce the incidental mortality and serious injury of marine mammals in commercial fishing operations;

E. The actual, expected, or potential impacts of habitat destruction, including marine pollution and natural environmental change, on specific marine mammal species or stocks, and for strategic stocks, appropriate conservation or management measures to alleviate any such impacts; and

F. Any other issue which the Secretary or the groups consider appropriate.

SRG members collectively serve as independent advisors to NMFS and the U.S. Fish and Wildlife Service and provide their expert review and recommendations through participation in the SRG. Members attend annual meetings and undertake activities as independent persons providing expertise in their subject areas. Members are not appointed as representatives of professional organizations or particular stakeholder groups, including government entities, and are not permitted to represent or advocate for those organizations, groups, or entities during SRG meetings, discussions, and deliberations.

SRG membership is voluntary; and, except for reimbursable travel and related expenses, service is without pay. The term of service for SRG members is three years, and members may serve up to three consecutive terms if reappointed.

NMFS annually reviews the expertise available on the SRG and identifies gaps in the expertise that is needed to provide advice pursuant to section 117(d) of the MMPA. In conducting the reviews, NMFS attempts to achieve, to the maximum extent practicable, a balanced representation of viewpoints among the individuals on each SRG.

Expertise Solicited

For the Alaska SRG, NMFS seeks individuals with expertise in one or more of the following areas (not in order of priority): Toxicology, pollutants, and marine mammal health; abundance estimation, especially distance sampling and mark-recapture methods and survey design; anthropogenic impacts, particularly fisheries interactions, marine mammal bycatch estimation, depredation, ship strikes, entanglements, and the effects of anthropogenic sound; fishing gear and fishing practices; Alaska Native harvest and use of marine mammals for subsistence and handicraft purposes, especially in the Gulf of Alaska, Kodiak, and the Arctic; oceanographic changes impacting marine mammals; genetics as a method of identifying population structure; quantitative ecology, population dynamics, modeling, and statistics, especially as related to abundance and bycatch estimation; and pinnipeds.

For the Pacific SRG (including waters off the Pacific coast, Hawaiian Islands and the U.S. Territories in the Central and Western Pacific), NMFS seeks individuals with expertise in one or more of the following areas (not in order of priority): Incorporation of new methodological or technological advancements for data collection (e.g. genomics, eDNA, unmanned aerial or in-water autonomous vehicles) or data analysis, particularly for large complex datasets (e.g. machine learning, artificial intelligence, automation) into quantitative assessments of marine mammal abundance, life history, or population structure; marine mammal stock definition and assessment under the MMPA and Endangered Species Act, science-management interface; Marine Mammal Health and Stranding Response Program; West Coast and Pacific Islands fishing gear/techniques, including fishery/marine mammal interactions for State, Tribal, and/or regional/local fisheries; Pacific Northwest cetaceans, especially ecology and assessment of gray whales, humpback whales, harbor porpoise, Dall's porpoise, killer whales; West Coast pinnipeds, including assessment, life history, ecology, and human-pinniped interactions; large whales, particularly with regard to assessment, photo-identification, mark-recapture, life history, feeding ecology, movements, behavioral ecology as it relates to entanglement and ship strikes; oceanography and marine ecology, particularly decadal and long-term understanding; quantitative ecology, population dynamics, modeling, and statistics; interdisciplinary, integrative ecology with applications toward applied conservation and management problems, including evaluating bycatch and fisheries impacts across a range of marine mammal taxa; and marine mammal acoustics, including the integration of passive acoustic datasets into marine mammal assessments and examining the impacts of sound on marine mammal populations.

For the Atlantic SRG (including waters off the Atlantic coast, Gulf of Mexico, and U.S. Territories in the Caribbean), NMFS seeks individuals with expertise in one or more of the following priority areas (not in order of priority): Protected species conservation, wildlife management, and policy/science interface especially in the non-governmental sector; line-transect methodology, mark-recapture methods, survey design, and quantitative ecology; life history and ecology, particularly large cetaceans and delphinid species; Gulf of Mexico cetacean population dynamics; Southeast U.S. cetaceans; Northeast U.S. Large Marine Ecosystem (LME); marine mammal health, physiology, energetics, and toxicology; genetics; fishing gear and practices, particularly fisheries with marine mammal bycatch, fishery bycatch estimation, and bycatch reduction; ecosystem climate impacts; and manatees.

Submitting a Nomination

Nominations for new members should be sent to Dr. Zachary Schakner in the NMFS Office of Science & Technology (see ADDRESSES) and must be received by October 5, 2020. Nominations should be accompanied by the individual's curriculum vitae and detailed information regarding how the recommended person meets the minimum selection criteria for SRG members (see below). Nominations should also include the nominee's name, address, telephone number, and email address. Self-nominations are acceptable.

Selection Criteria

Although the MMPA does not explicitly prohibit Federal employees from serving as SRG members, NMFS interprets MMPA section 117(d)'s reference to the SRGs as “independent” bodies that are exempt from Federal Advisory Committee Act requirements to mean that SRGs are intended to augment existing Federal expertise and are not composed of Federal employees or contractors.

When reviewing nominations, NMFS, in consultation with the U.S. Fish and Wildlife Service, will consider the following six criteria:

(1) Ability to make time available for the purposes of the SRG;

(2) Knowledge of the species (or closely related species) of marine mammals in the SRG's region;

(3) Scientific or technical achievement in a relevant discipline, particularly the areas of expertise identified above, to be considered an expert peer reviewer for the topic;

(4) Demonstrated experience working effectively on teams;

(5) Expertise relevant to current and expected needs of the SRG, in particular, expertise required to provide adequate review and knowledgeable feedback on current or developing stock assessment issues, techniques, etc. In practice, this means that each member should have expertise in more than one topic as the species and scientific issues discussed in SRG meetings are diverse; and

(6) No conflict of interest with respect to their duties as a member of the SRG.

Next Steps

Following review, nominees who are identified by NMFS as potential new members must be vetted and cleared in accordance with Department of Commerce policy. NMFS will contact these individuals and ask them to provide written confirmation that they are not registered Federal lobbyists or registered foreign agents, and to complete a confidential financial disclosure form, which will be reviewed by the Ethics Law and Programs Division within the U.S. Department of Commerce's Office of General Counsel. All nominees will be notified of a selection decision in advance of the 2020 SRG meetings.

Dated: August 28, 2020.
Karl I. Moline,
Acting Director, Office of Science and Technology, National Marine Fisheries Service.

[FR Doc. 2020-19526 Filed 9-2-20; 8:45 am]

BILLING CODE 3510-22-P